DEPARTMENT OF TRANSPORTATION

Federal Railroad Administration

[Docket Number FRA-2020-0046]

Petition for Extension of Waiver of Compliance

Under part 211 of title 49 Code of Federal Regulations (CFR), this document provides the public notice that by letter received September 26, 2024, The Everett Railroad Company (EV) petitioned the Federal Railroad Administration (FRA) to extend a special approval pursuant to 49 CFR part 215 (Railroad Freight Car Safety Standards), and to extend a waiver of compliance from parts 215 and 224 (Reflectorization of Rail Freight Rolling Stock). FRA assigned the petition Docket Number FRA-2020-0046.

Specifically, EV requested to extend the previous special approval pursuant to 49 CFR 215.203, Restricted cars, in this docket for 1 boxcar (PRR 77815), which is more than 50 years from the date of original construction. EV also seeks to extend relief from § 215.303, Stenciling of restricted cars, and part 224, to use the car as “a historic relic in conjunction with the company's tourist and excursion trains.” In its petition, EV explained that the relief will help “maintain the car in its historic appearance and identity for photography, film and purposes of historic interpretation.”

In support of its request, EV stated that the car will operate under restricted speed rules (not exceeding 20 miles per hour) and that it will not be interchanged to any other railroad. EV added that the “railroad's operating territory is generally rural in nature.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by January 21, 2025 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-26995 Filed 11-19-24; 8:45 am]

BILLING CODE 4910-06-P